DEPARTMENT OF COMMERCE

National Oceanic and Atmospheric Administration

RIN 0648-XA688

Pacific Fishery Management Council; Public Meetings

AGENCY: National Marine Fisheries Service (NMFS), National Oceanic and Atmospheric Administration (NOAA), Commerce.

ACTION: Notice of a public meeting.

SUMMARY: A public meeting of the Pacific Fishery Management Council's (Council) Scientific and Statistical Committee (SSC) Groundfish Subcommittee will be held to review at least two new assessments of west coast groundfish species and new rebuilding analyses for seven west coast groundfish species. This meeting is a work session which is open to the public.

DATES: The SSC Groundfish Subcommittee meeting to review new groundfish stock assessments and rebuilding analyses will be held beginning at 8:30 a.m., Monday, September 26, 2011 and will continue through Friday, September 30, 2011. The meeting will convene at 8:30 a.m. and will end at 5:30 p.m. or as necessary to complete business each day during the week.

ADDRESSES: The SSC Groundfish Subcommittee meeting will be held at the National Oceanic and Atmospheric Administration (NOAA) Western Regional Center's Sand Point Facility, Alaska Fisheries Science Center, Traynor Room in Building 4, 7600 Sand Point Way NE., Seattle, WA 98115-6349; telephone: (206) 526-4000.

Council address: Pacific Fishery Management Council, 7700 NE Ambassador Place, Suite 101, Portland, OR 97220-1384.

FOR FURTHER INFORMATION CONTACT: Mr. John DeVore, Pacific Fishery Management Council; telephone: (503) 820-2280.

SUPPLEMENTARY INFORMATION: The purpose of the SSC Groundfish Subcommittee meeting is to review new draft stock assessments for bocaccio and darkblotched rockfish, and possibly a new draft assessment for widow rockfish pending a decision by the SSC at their September 13-15 meeting in San Mateo, CA. Further, the SSC Groundfish Subcommittee will review new draft rebuilding analyses and other pertinent information for bocaccio, canary rockfish, darkblotched rockfish, Pacific ocean perch, widow rockfish, yelloweye rockfish, and petrale sole, work with the Stock Assessment Teams to make necessary revisions, and ultimately produce an SSC Groundfish Subcommittee report for use by the Council family and other interested persons. These new assessments and rebuilding analyses will be used to analyze 2013-14 harvest specifications and to develop or modify rebuilding plans for these species.

No management actions will be decided at this SSC Groundfish Subcommittee meeting. The SSC Groundfish Subcommittees' role will be development of recommendations and reports for consideration by the SSC and the Council at its November meeting in Costa Mesa, CA.

Entry to the NOAA Western Regional Center's Sand Point Facility requires visitors to show a valid picture ID and register with security. A visitor's badge, which must be worn while at the NOAA Western Regional Center's Facility, will be issued to non-Federal employees participating in the meeting.

Although non-emergency issues not contained in the meeting agendas may come before the meeting participants for discussion, those issues may not be the subject of formal action during these meetings. SSC Groundfish Subcommittee action will be restricted to those issues specifically listed in this notice and any issues arising after publication of this notice that require emergency action under Section 305(c) of the Magnuson-Stevens Fishery Conservation and Management Act, provided the public has been notified of the meeting participants' intent to take final action to address the emergency.

Special Accommodations

This meeting is physically accessible to people with disabilities. Requests for sign language interpretation or other auxiliary aids should be directed to Mr. Kris Kleinschmidt at (503) 820-2280 at least 5 days prior to the meeting date.

Dated: September 2, 2011.
Tracey L. Thompson,
Acting Director, Office of Sustainable Fisheries, National Marine Fisheries Service.

[FR Doc. 2011-22971 Filed 9-7-11; 8:45 am]

BILLING CODE 3510-22-P